DEPARTMENT OF TRANSPORTATION

Federal Aviation Administration

14 CFR Part 39

[Docket No. FAA-2005-22587; Directorate Identifier 2003-NM-266-AD; Amendment 39-14316; AD 2005-20-20]

RIN 2120-AA64

Airworthiness Directives; Airbus Model A330-301, -321, -322, -341, and -342 Airplanes; and Model A340-200 and A340-300 Series Airplanes

AGENCY: Federal Aviation Administration (FAA), Department of Transportation (DOT).

ACTION: Final rule; request for comments.

SUMMARY: The FAA is adopting a new airworthiness directive (AD) for certain Airbus Model A330-301, -321, -322, -341, and -342 airplanes; and Model A340-200 and A340-300 series airplanes. This AD requires installing lockplates on the main landing gear (MLG) and center landing gear (CLG) wheel assemblies, as applicable, to keep the tie bolts in position in the wheel assembly in the event of a tie bolt failure. This AD results from reports of tie bolts that were broken or missing from the MLG wheel assembly; in some cases the wheels have ruptured and caused damage to other equipment in the adjacent area. We are issuing this AD to prevent damage to the wheel assembly and equipment in the area adjacent to the MLG and CLG, which could result in a decrease in braking function and possible runway over-run.

DATES: Effective October 21, 2005.

The Director of the Federal Register approved the incorporation by reference of certain publications listed in the AD as of October 21, 2005.

We must receive comments on this AD by December 5, 2005.

ADDRESSES: Use one of the following addresses to submit comments on this AD.

• DOT Docket Web Site: Go to http://dms.dot.gov and follow the instructions for sending your comments electronically.

• Government-Wide Rulemaking Web Site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Discussion

The Direction Générale de l'Aviation Civile (DGAC), which is the airworthiness authority for France, notified us that an unsafe condition may exist on certain Airbus Model A330-301, -321, -322, -341, and -342 airplanes that are equipped with Messier-Goodrich main landing gear (MLG) wheel assemblies, part number (P/N) 3-1509-2; and Model A340-200 and A340-300 series airplanes that are equipped with center landing gear (CLG) and MLG wheel assemblies, P/N 3-1509-2. The DGAC advises that operators of Model A330 series airplanes fitted with the affected wheel assemblies reported tie bolts that were broken or missing from the MLG wheel assemblies. Investigations indicated that the tie bolts ruptured due to fatigue failure and subsequently migrated out of the tie bolt hole. As a consequence, in some cases the failed tie bolt caught on the brake unit and ruptured a wheel. This condition, if not corrected, could cause damage to the wheel assembly and equipment in the area adjacent to the MLG and CLG, which could result in a decrease in braking function and possible runway over-run.

Relevant Service Information

Airbus has issued Service Bulletin A330-32-3167, dated August 12, 2003 (for Model A330-301, -321, -322, and -342 airplanes); and Service Bulletin A340-32-4206, dated August 12, 2003 (for Model A340-211 and -212 airplanes; and Model A340-300 series airplanes). The service bulletins describe procedures for modifying the MLG and CLG, as applicable, by installing lockplates on the wheel assembly to keep the tie bolts in position in the wheel assembly in the event of a tie bolt failure. Accomplishing the actions specified in the service information is intended to adequately address the unsafe condition. The DGAC mandated the service information and issued French airworthiness directives 2003-392(B) and 2003-393(B), both dated October 29, 2003, to ensure the continued airworthiness of these airplanes in France.

The service bulletins refer to Goodrich-Messier Service Bulletin 3-1509-32-5, dated August 12, 2003, as an additional source of service information for installing the lockplates.

FAA's Determination and Requirements of This AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent damage to the wheel assembly and equipment in the area adjacent to the MLG or CLG, which could result in a decrease in braking function and possible runway over-run. This AD requires accomplishing the actions specified in the service information described previously, except as discussed under “Difference Between the AD and the French Airworthiness Directives.”

Difference Between the AD and the French Airworthiness Directives

The applicability of French airworthiness directives 2003-392(B) and 2003-393(B) excludes airplanes on which Airbus Service Bulletins A330-32-3167 or A340-32-4206 (as applicable) were accomplished in service. However, we have not excluded those airplanes in the applicability of this AD; rather, this AD includes a requirement to accomplish the actions specified in those service bulletins. This requirement would ensure that the actions specified in the service bulletins and required by this AD are accomplished on all affected airplanes. Operators must continue to operate the airplane in the configuration required by this AD unless an alternative method of compliance is approved.

Clarification of Applicability

Although Airbus Service Bulletin A340-32-4206, dated August 12, 2003, does not include Airbus Model A340-213 in its effectivity, this AD includes Model A340-213 in the applicability. Model A340-213 is identified in the applicability of French airworthiness directive 2003-393(B) as being subject to the identified unsafe condition, and therefore, requires the same corrective actions as the other airplane models identified in Service Bulletin A340-32-4206.

Although Airbus Service Bulletin A330-32-3167, dated August 12, 2003, does not include Airbus Model A330-341 in its effectivity, this AD includes Model A330-341 in the applicability. Model A330-341 is identified in the applicability of French airworthiness directive 2003-392(B) as being subject to the identified unsafe condition, and therefore, requires the same corrective actions as the other airplane models identified in Service Bulletin A330-32-3167.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

The following table provides the estimated costs to comply with this AD for any affected airplane that might be imported and placed on the U.S. Register in the future.

Estimated Costs
Installation for Airbus Model— | Work hours | Average labor rate per hour | Parts cost | Cost per airplane
A330-301, -321, -322, -341, and -342 airplanes | 6 | $65 | $29,888 | $30,278
A340-200 and A340-300 series airplanes | 8 | 65 | 37,360 | 37,880

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-22587; Directorate Identifier 2003-NM-266-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9:00 a.m. and 5:00 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-20 Airbus: Amendment 39-14316. Docket No. FAA-2005-22587; Directorate Identifier 2003-NM-266-AD.

Effective Date

(a) This AD becomes effective October 21, 2005.

Affected ADs

(b) None.

Applicability

(c) This AD applies to Airbus Model A330-301, -321, -322, -341, and -342 airplanes; Model A340-211, -212, and -213 airplanes; and Model A340-311, -312, and -313 airplanes; certificated in any category; as identified in Airbus Service Bulletin A330-32-3167, dated August 12, 2003; and Airbus Service Bulletin A340-32-4206, dated August 12, 2003; as applicable.

Unsafe Condition

(d) This AD results from reports of tie bolts that were broken or missing from the main landing gear (MLG) wheel assembly; in some cases the wheels have ruptured and caused damage to other equipment in the adjacent area. We are issuing this AD to prevent damage to the wheel assembly and equipment in the area adjacent to the MLG and center landing gear (CLG), which could result in a decrease in braking function and possible runway over-run.

Compliance

(e) You are responsible for having the actions required by this AD performed within the compliance times specified, unless the actions have already been done.

Modification and Reidentification

(f) Within 12 months after the effective date of this AD, modify the MLG and CLG, as applicable, by installing lockplates on the wheel assembly. Do all actions in accordance with the Accomplishment Instructions of Airbus Service Bulletin A330-32-3167, dated August 12, 2003; or A340-32-4206, dated August, 12, 2003; as applicable.

Note 1: The service bulletins referenced in paragraph (f) of this AD refer to Goodrich-Messier Service Bulletin 3-1509-32-5, dated August 12, 2003; as an additional source of service information for installing the lockplates.

Alternative Methods of Compliance (AMOCs)

(g)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(h) French airworthiness directives 2003-392(B) and 2003-393(B), both dated October 29, 2003, also address the subject of this AD.

Material Incorporated by Reference

(i) You must use Airbus Service Bulletin A330-32-3167, dated August 12, 2003; or Airbus Service Bulletin A340-32-4206, dated August 12, 2003; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-19830 Filed 10-5-05; 8:45 am]

BILLING CODE 4910-13-P